DEPARTMENT OF JUSTICE

Notice of Lodging of Consent Decree Under the Oil Pollution Act

Notice is hereby given that on October 30, 2008, a proposed Consent Decree (“Decree”) in United States et al. v. Enbridge Energy Limited Partnership, Civil Action No. 0:08-cv-5878, was lodged with the United States District Court for the District of Minnesota.

In this action, the United States, the State of Minnesota, and the Leech Lake Band of Ojibwe sought to recover from Enbridge Energy Limited Partnership (“Enbridge”) natural resource damages under the Oil Pollution Act, 33 U.S.C. 2701, et seq., and the Minnesota Water Pollution Control Act, Minn. Stat. § 115.071 subd.3, respectively, at the Enbridge Energy Site, Cohasset, Itasca County, MN, which arose from an alleged July 2002 discharge, from a subsurface pipeline owned by Enbridge, of 6,000 barrels of crude oil into a forested wetland within the watershed of a tributary of the Mississippi River.

Under the proposed Decree, Enbridge will: (i) Pay a total of $16,300 to the plaintiffs in reimbursement of the costs they incurred in assessing the natural resource damages (in addition to $112,000 in assessment costs previously reimbursed by Embridge); (ii) remove a portion of a forest road within the Chippewa National Forest; (iii) restore an impounded forested wetlands within the Chippewa National Forest; and (iv) retrofit, with diesel oxidation catalyst devices, ten diesel school buses owned by the Tribe.

The Department of Justice will receive for a period of thirty (30) days from the date of this publication comments relating to the proposed Decree. Comments should be addressed to the Assistant Attorney General, Environment and Natural Resources Division, and either e-mailed to pubcomment-ees.enrd@usdoj.gov or mailed to P.O. Box 7611, U.S. Department of Justice, Washington, DC 20044-7611, and should refer to United States et al. v. Enbridge Energy Limited Partnership, D.J. Ref. 90-5-1-1-08549.

The Decree may be examined at the Office of the United States Attorney, 300 S. 4th St., Suite 600, Minneapolis, MN 55415, and at U.S. EPA Region 5, 77 W. Jackson Blvd., Chicago, Illinois 60604. During the public comment period, the Decree may also be examined on the following Department of Justice Web site, to http://www.usdoj.gov/enrd/Consent_Decrees.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $34.35 (25 cents per page reproduction cost) payable to the U.S. Treasury or, if by e-mail or fax, forward a check in that amount to the Consent Decree Library at the stated address.

William Brighton,
Assistant Chief, Environmental Enforcement Section, Environment and Natural Resources Division.

[FR Doc. E8-26731 Filed 11-10-08; 8:45 am]

BILLING CODE 4410-15-P